SMALL BUSINESS ADMINISTRATION

[Declaration of Disaster #3339]

State of Wisconsin; (Amendment #5)

In accordance with notices received from the Federal Emergency Management Agency, dated June 28, 2001, the above-numbered Declaration is hereby amended to include Calumet and Rusk Counties as disaster areas caused by flooding, severe storms and tornadoes occurring between April 10, 2001 and continuing. In addition, the Declaration is also amended to extend the deadline for filing applications for physical damages as a result of this disaster to August 10, 2001.

In addition, applications for economic injury loans from small businesses located in Chippewa, Manitowoc, Price, Sheboygan and Taylor Counties in the State of Wisconsin may be filed until the specified date at the previously designated location. Any counties contiguous to the above named primary counties and not listed here have been previously declared.

All other information remains the same, i.e., the deadline for filing applications for physical damage is August 10, 2001 and for economic injury the deadline is February 11, 2002.

(Catalog of Federal Domestic Assistance Program Nos. 59002 and 59008.)

Dated: July 2, 2001.
Herbert L. Mitchell,
Associate Administrator For Disaster Assistance.

[FR Doc. 01-17088 Filed 7-6-01; 8:45 am]

BILLING CODE 8025-01-P